DEPARTMENT OF ENERGY

Federal Energy Regulatory Commission

[Docket No. EL00-118-000]

Public Service Company of New Mexico; Notice Amending Docket No. Assignment

October 27, 2000.

Take notice that on June 7, 2000, as amended on September 8, 2000, the Public Service Company of New Mexico (PNM) tendered for filing an application under section 203 of the Federal Power Act (FPA), seeking Commission authorization for PNM's corporate restructuring to implement retail competition in New Mexico. PNM's application and its amendment were assigned Docket Nos. EC00-99-000 and EC00-99-001, and were noticed under those docket numbers, with comments due on or before July 7, 2000 and September 29, 2000, respectively.

Also in its original application, PNM requested Commission authorization for waivers of the requirements of Order Nos. 888, 889 and 2000 with respect to Manzano Energy Corporation's future functions, and a disclaimer of jurisdiction over transactions within the meaning of section 305(a) of the FPA. That portion of PNM's application should have been assigned an “EL” docket number. Accordingly, this notice is to amend the original Docket No. assignments EC00-99-000 and EC00-99-001 to include the assignment of Docket No. EL00-118-000.

Any person desiring to be heard or to protest Docket No. EL00-118-000 should file a motion to intervene or protest with the Federal Energy Regulatory Commission, 888 First Street, N.E., Washington, D.C. 20426, in accordance with Rules 211 and 214 of the Commission's Rules of Practice and Procedure (18 CFR 385.211 and 385.214). All such motions and protests should be filed on or before November 9, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Beginning November 1, 2000, comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-28126 Filed 11-1-00; 8:45 am]

BILLING CODE 6717-01-M